DEPARTMENT OF ENERGY

Federal Energy Regulatory Commission

[Project No. 13840-000]

ECOsponsible, Inc.; Notice of Preliminary Permit Application Accepted for Filing and Soliciting Comments, Motions to Intervene, and Competing Applications

On September 15, 2010, ECOsponsible, Inc., filed an application for a preliminary permit, pursuant to section 4(f) of the Federal Power Act (FPA), proposing to study the feasibility of the Niagara River Community Hydro Project #2 (Niagara #2 Project or project) to be located on the Niagara River, near Lewiston, in Niagara County, New York. The sole purpose of a preliminary permit, if issued, is to grant the permit holder priority to file a license application during the permit term. A preliminary permit does not authorize the permit holder to perform any land-disturbing activities or otherwise enter upon lands or waters owned by others without the owners' express permission.

The proposed project would consist of the following: (1) Five hydrokinetic turbine support structures, each containing four 10-foot-diameter Spitfire Horizontal Axis Turbines rated at approximately 250 kilowatts (kW) each; (2) a 150-kilovolt (kV) underwater transmission line connecting the triads and transmitting electricity to an onshore collection substation and point of interconnection switchyard; (3) an operations and maintenance building to house the command center of the project's supervisory control and data acquisition system; and (4) appurtenant facilities. The estimated annual generation of the Niagara #2 Project would be 550,000 megawatt-hours.

Applicant Contact: Dennis Ryan, ECOsponsible, Inc., 120 Mitchell Road, East Aurora, NY 14052-9710, phone: (716) 655-3524.

FERC Contact: Allyson Conner (202) 502-6082.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or for TTY, contact (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13840-000) in the docket number field to access the document. For assistance, contact FERC Online Support.

Dated: March 18, 2011.
Kimberly D. Bose,
Secretary.

[FR Doc. 2011-7044 Filed 3-24-11; 8:45 am]

BILLING CODE 6717-01-P